DEPARTMENT OF VETERANS AFFAIRS

Publication of the Date on Which All Amounts Deposited in the Veterans Choice Fund Will Be Exhausted

AGENCY: Department of Veterans Affairs.

ACTION: Notice.

SUMMARY: The Veterans Access, Choice, and Accountability Act of 2014, as amended, directs the Department of Veterans Affairs (VA) to publish in the Federal Register the date on which the Secretary will have exhausted all amounts deposited in the Veterans Choice Fund. This Federal Register Notice is VA's publication of this date.

FOR FURTHER INFORMATION CONTACT: Joseph Duran, Director, Policy and Planning (10D1A1), Veterans Health Administration, Department of Veterans Affairs, 810 Vermont Avenue NW, Washington, DC 20420, (303) 372-4629. This is not a toll free number.

SUPPLEMENTARY INFORMATION: The Veterans Access, Choice, and Accountability Act of 2014 (the Act), Public Law (Pub. L.) 113-146, as amended, section 802, established the Veterans Choice Fund to be used by the Secretary of Veterans Affairs to carry out the Veterans Choice Program established by section 101 of the Act. Pursuant to sections 101(p)(1) and (2) of the Act, the Secretary may not furnish care and services under the Veterans Choice Program after the date on which the Secretary has exhausted all amounts deposited in the Veterans Choice Fund. Section 101(p)(3) of the Act directs, not later than 30 days prior, VA to publish this date in the Federal Register and on an internet website of the Department available to the public. Based on current data, VA believes it will have exhausted the amount that was deposited in the Veterans Choice Fund no earlier than May 31, 2018; however, due to the unique nature of health care and the variability in health care costs, the amounts in the Fund could last as long as June 15, 2018. This information can be found on the internet at http://www.va.gov/opa/choiceact/index.asp. VA will update the website if it determines based on the most current information that the amounts in the Fund will be exhausted later than anticipated.

Signing Authority

The Secretary of Veterans Affairs, or designee, approved this document and authorized the undersigned to sign and submit the document to the Office of the Federal Register for publication electronically as an official document of the Department of Veterans Affairs. Peter M. O'Rourke, Chief of Staff, Department of Veterans Affairs, approved this document on May 7, 2018, for publication.

Dated: May 7, 2018.
Jeffrey M. Martin,
Impact Analyst, Office of Regulation Policy & Management, Office of the Secretary, Department of Veterans Affairs.

[FR Doc. 2018-10058 Filed 5-10-18; 8:45 am]

BILLING CODE 8320-01-P